DEPARTMENT OF COMMERCE

International Trade Administration

[C-357-815, C-533-821, C-560-813, C-791-810, C-549-818]

Hot-Rolled Carbon Steel Flat Products from Argentina, India, Indonesia, South Africa, and Thailand: Final Results of Expedited Five-Year (Sunset) Reviews of the Countervailing Duty Orders

AGENCY: Import Administration, International Trade Administration, Department of Commerce.

SUMMARY: On August 1, 2006, the Department of Commerce (the Department) published in the Federal Register the notice of initiation of the first five-year sunset reviews of the countervailing duty orders on certain hot-rolled carbon steel flat products (hot-rolled steel) from Argentina, India, Indonesia, South Africa, and Thailand, pursuant to section 751(c) of the Tariff Act of 1930, as amended (the Act). See Initiation of Five-Year (Sunset) Reviews, 71 FR 43443 (August 1, 2006) (Initiation of First Sunset Reviews). On the basis of notices of intent to participate and adequate substantive responses filed on behalf of domestic interested parties, and inadequate responses from respondent interested parties (in these cases, no responses from the governments of Argentina, India, Indonesia, South Africa, and Thailand, or any of the respondent companies covered by the orders), the Department has conducted expedited sunset reviews of these orders pursuant to section 751(c)(3)(B) of the Act and 19 CFR 351.218(e)(1)(ii)(B). As a result of these sunset reviews, the Department finds that revocation of the countervailing duty orders is likely to lead to continuation or recurrence of countervailable subsidies at the levels indicated in the “Final Results of Review” section of this notice.

EFFECTIVE DATE: December 7, 2006.

FOR FURTHER INFORMATION CONTACT: Darla Brown at (202) 482-2849 (Argentina, Indonesia), Preeti Tolani at (202) 482-0395 (India), Elfi Blum at (202) 482-0197 (South Africa), Myrna Lobo at (202)482-2371 (Thailand), or Dana Mermelstein at (202) 482-1391, AD/CVD Operations, Office 6, Import Administration, International Trade Administration, U.S. Department of Commerce, 14th Street and Constitution Ave., NW., Washington, DC 20230.

SUPPLEMENTARY INFORMATION:

Background

On August 1, 2006, the Department initiated the first sunset reviews of the countervailing duty orders on hot-rolled steel from Argentina, India, Indonesia, South Africa, and Thailand, pursuant to section 751(c) of the Act. See First Sunset Reviews. The Department received notices of intent to participate from United States Steel Corporation (U.S. Steel), Mittal Steel USA Inc. (Mittal USA), Nucor Corporation (Nucor), Gallatin Steel Co., IPSCO Steel Inc. (IPSCO), Steel Dynamics, Inc. (collectively, domestic interested parties), and the United Steel, Paper and Forestry, Rubber, Manufacturing, Energy, Allied Industrial and Service Workers International Union, AFL-CIO-CLC (USW), within the deadline specified in 19 CFR 351.218(d)(1)(i). Domestic interested parties and USW claimed interested party status under sections 771(9)(C) and (D) of the Act, as U.S. producers and a certified union engaged in the manufacture, production, or wholesale of hot-rolled steel in the United States.

On August 31, 2006, the Department received a substantive response for each order from domestic interested parties within the deadline specified in 19 CFR 351.218(d)(3)(i). The Department did not receive any responses from any respondent interested party to this proceeding. In accordance with 19 CFR 351.218(e)(1)(ii)(C)(1), the Department notified the International Trade Commission (ITC) that respondent interested parties to the CVD orders on hot-rolled steel from Argentina, India, Indonesia, South Africa, and Thailand, provided inadequate responses to the Initiation of First Sunset Reviews. The Department, therefore, has conducted expedited sunset reviews of the countervailing duty orders, pursuant to 19 CFR 351.218(e)(1)(ii)(B) and 351.218(e)(1)(ii)(C)(2).

Since the publication of the countervailing duty orders (see Notice of Countervailing Duty Order: Certain Hot-Rolled Carbon Steel Flat Products from Argentina, 66 FR 47173 (September 11, 2001), Notice of Amended Final Determination and Notice of Countervailing Duty Orders: Certain Hot-Rolled Carbon Steel Flat Products From India and Indonesia, 66 FR 60198 (December 3, 2001), Notice of Countervailing Duty Order: Certain Hot-Rolled Carbon Steel Flat Products from South Africa, 66 FR 60201 (December 3, 2001), and Notice of Countervailing Duty Order: Certain Hot-Rolled Carbon Steel Flat Products from Thailand, 66 FR 60197 (December 3, 2001), with the exception of the countervailing duty order on hot-rolled steel from India, there have been no administrative reviews of these orders.

Scope of the Orders

ARGENTINA, INDIA, INDONESIA, SOUTH AFRICA, THAILAND

The merchandise subject to these countervailing duty orders is certain hot-rolled carbon steel flat products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4 mm, not in coils and without patterns in relief) of a thickness not less than 4.0 mm is not included within the scope of this investigation.

Specifically included within the scope of these orders are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products included in the scope of these orders, regardless of definitions in the Harmonized Tariff Schedule of the United States (HTSUS), are products in which: (i) iron predominates, by weight, over each of the other contained elements; (ii) the carbon content is 2 percent or less, by weight; and (iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical descriptions provided above are within the scope of these orders unless otherwise excluded. The following products, by way of example, are outside or specifically excluded from the scope of these orders:

- Alloy hot-rolled steel products in which at least one of the chemical elements exceeds those listed above (including, e.g., American Society for Testing and Materials (ASTM) specifications A543, A387, A514, A517, A506).

- Society of Automotive Engineers (SAE)/American Iron & Steel Institute (AISI) grades of series 2300 and higher.

- Ball bearings steels, as defined in the HTSUS.

- Tool steels, as defined in the HTSUS.

- Silico-manganese (as defined in the HTSUS) or silicon electrical steel with a silicon level exceeding 2.25 percent.

- ASTM specifications A710 and A736.

- USS Abrasion-resistant steels (USS AR 400, USS AR 500).

- All products (proprietary or otherwise) based on an alloy ASTM specification (sample specifications: ASTM A506, A507).

- Non-rectangular shapes, not in coils, which are the result of having been processed by cutting or stamping and which have assumed the character of articles or products classified outside chapter 72 of the HTSUS.

The merchandise subject to these orders is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel flat products covered by these orders, including vacuum degassed fully stabilized, high strength low alloy, and the substrate for motor lamination steel, may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTSUS subheadings are provided for convenience and customs purposes, the Department's written description of the merchandise subject to these countervailing duty orders is dispositive.

Analysis of Comments Received

All issues raised in the substantive responses by parties to these sunset reviews are addressed in the Issues and Decision Memorandum for Final Results of Expedited Five-Year (Sunset) Reviews of the Countervailing Duty Orders on Certain Hot-Rolled Carbon Steel Flat Products from Argentina, India, Indonesia, South Africa, and Thailand, from Stephen J. Claeys, Deputy Assistant Secretary for Import Administration, to David M. Spooner, Assistant Secretary for Import Administration, dated November 29, 2006 (Decision Memo), which is hereby adopted by this notice. The issues discussed in the Decision Memo include the likelihood of continuation or recurrence of a countervailable subsidy, the net countervailable subsidy rate likely to prevail if the orders were revoked and the nature of the subsidy. Parties can find a complete discussion of all issues raised in these sunset reviews and the corresponding recommendation in this public memorandum which is on file in B-099, the Central Records Unit, of the main Commerce building. In addition, a complete version of the Decision Memo can be accessed directly on the Department's Web page at http://ia.ita.doc.gov/frn. The paper copy and electronic version of the Decision Memo are identical in content.

Final Results of Review

The Department determines that revocation of the countervailing duty orders on hot-rolled steel from Argentina, India, Indonesia, South Africa, and Thailand would be likely to lead to continuation or recurrence of countervailable subsidies at the following subsidy rates:

ARGENTINA
Manufacturer/Exporter | Subsidy Rate
Siderar Sociedad Anomina
Industrial & Commercial (Siderar) | 41.69 % ad valorem
All others | 41.69 % ad valorem

INDIA
Manufacturer/Exporter | Subsidy Rate
Essar Steel Limited (Essar) | 12.90 % ad valorem
Ispat Industries Limited (Ispat) | 36.51 % ad valorem
Steel Authority of India Limited (SAIL) | 22.89 % ad valorem
Tata Iron and Steel Company Limited (TISCO) | 13.79 % ad valorem
All Others | 20.72 % ad valorem

INDONESIA
Manufacturer/Exporter | Subsidy Rate
P.T. Krakatau Steel | 10.21 % ad valorem
All others | 10.21 % ad valorem

SOUTH AFRICA
Manufacturer/Exporter | Subsidy Rate
Saldanha Steel (Pty.) Ltd. (Saldanha)/
Iscor Ltd. (Iscor) | 5.76 % ad valorem
All others | 5.76 % ad valorem

THAILAND
Manufacturer/Exporter | Subsidy Rate
Sahaviriya Steel Industries Public
Company Limited (SSI) | 2.38 % ad valorem
All others | 2.38 % ad valorem

International Trade Commission (ITC) Notification

In accordance with section 752(b)(3) of the Act, we will notify the ITC of the final results of these full sunset reviews.

Administrative Protective Orders

This notice also serves as the only reminder to parties subject to administrative protective orders (APO) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these determinations and notice in accordance with sections 751(c), 752, and 777(i) of the Act.

Dated: November 29, 2006.
Joseph A. Spetrini,
Acting Assistant Secretary for Import Administration.

[FR Doc. E6-20699 Filed 12-6-06; 8:45 am]

BILLING CODE 3510-DS-S